DEPARTMENT OF ENERGY

Federal Energy Regulatory Commission

[Project No. 15045-002]

Current Hydro Project 19, LLC; Notice of Application Tendered for Filing With the Commission and Soliciting Additional Study Requests and Establishing Procedural Schedule for Licensing and a Deadline for Submission of Final Amendments

Take notice that the following hydroelectric application has been filed with the Commission and is available for public inspection.

a. Type of Application: Original Major License.

b. Project No.: 15045-002.

c. Date Filed: May 8, 2024.

d. Submitted By: Current Hydro Project 19, LLC (Current Hydro).

e. Name of Project: New Cumberland Hydroelectric Project (New Cumberland Project).

f. Location: The New Cumberland Project would be located at the U.S. Army Corps of Engineers' (Corps) New Cumberland Locks and Dam on the Ohio River in Hancock County, West Virginia. The project would occupy 2 acres of federal land administered by the Corps.

g. Filed Pursuant to: Federal Power Act 16 U.S.C. 791(a)-825(r).

h. Applicant Contact: Joel Herm, P.O. Box 224, Rhinebeck, NY 12572, (917) 244-3607, joel@currenthydro.com or Norm Bishop, P.O. Box 224, Rhinebeck, NY 12572, (303) 475-0608.

i. FERC Contact: Jay Summers at (202) 502-8764; or email at jay.summers@ferc.gov.

j. Cooperating agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See 94 FERC ¶ 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: July 7, 2024.¹

¹ The Commission's Rules of Practice and Procedure provide that if a filing deadline falls on a Saturday, Sunday, holiday, or other day when the Commission is closed for business, the filing deadline does not end until the close of business on the next business day. 18 CFR 385.2007(a)(2). Because the 60-day filing deadline falls on a Sunday (i.e., July 7, 2024), the filing deadline is extended until the close of business on Monday, July 8, 2024.

The Commission strongly encourages electronic filing. Please file additional study requests and requests for cooperating agency status using the Commission's eFiling system at http://www.ferc.gov/docs-filing/efiling.asp. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Acting Secretary, Federal Energy Regulatory Commission, 888 First Street NE, Room 1A, Washington, DC 20426. Submissions sent via any other carrier must be addressed to: Debbie-Anne A. Reese, Acting Secretary, Federal Energy Regulatory Commission, 12225 Wilkins Avenue, Rockville, Maryland 20852. All filings must clearly identify the project name and docket number on the first page: New Cumberland Hydroelectric Project (P-15045-002).

m. The application is not ready for environmental analysis at this time.

n. The New Cumberland Project would use the Corps' existing New Cumberland Locks and Dam and would consist of the following new facilities: (1) a 101-foot-wide, 193-foot-long reinforced concrete powerhouse; (2) a 90-foot-wide by 350-foot-long intake section with trash racks; (3) two identical Kaplan pit turbine-generators with a combined capacity of 19.99 megawatts; (4) a 13.8-kilovolt (kV), 180-foot-long underground utilidor crossing under the Norfolk Southern railway and transitioning to a 350-foot overhead transmission to the powerhouse-substation; (5) a 90-foot-wide by 90-foot-long powerhouse-substation; (6) a 1,050-foot-long, 34.5-kV, three-phase overhead transmission line connecting the powerhouse-substation to the existing 35-kV transmission line, east of Hancock County Bus Garage interconnection point in West Virginia; and (7) appurtenant facilities.

o. Copies of the application may be viewed on the Commission's website at http://www.ferc.gov using the “eLibrary” link. Enter the docket number, excluding the last three digits in the docket number field to access the document (P-2535). For assistance, contact FERC Online Support at FERCOnlineSupport@ferc.gov, or call (866) 208-3676 (toll-free) or (202) 502-8659 (TTY).

You may also register online at http://www.ferc.gov/docs-filing/esubscription.asp to be notified via email of new filings and issuances related to this or other pending projects. For assistance, contact FERC Online Support.

p. The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595, or OPP@ferc.gov.

q. Procedural schedule and final amendments: the application will be processed according to the following preliminary schedule. Revisions to the schedule will be made as appropriate.

Milestone | Target date
Issue Deficiency Letter (if necessary) | August 2024.
Request Additional Information (if necessary) | August 2024.
Issue Scoping Document 1 for comments | November 2024.
Request Additional Information (if necessary) | January 2025.
Issue Scoping Document 2 (if necessary) | February 2025.

Final amendments to the application must be filed with the Commission no later than 30 days from the issuance date of the notice of ready for environmental analysis.

Dated: May 14, 2024.
Debbie-Anne A. Reese,
Acting Secretary.

[FR Doc. 2024-11049 Filed 5-20-24; 8:45 am]

BILLING CODE 6717-01-P